DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: 2010 National Mental Health Services Survey (N-MHSS) (OMB No. 0930-0119)—Revision

The Substance Abuse and Mental Health Services Administration's (SAMHSA) Center for Mental Health Services (CMHS) will conduct the 2010 N-MHSS. This national survey will update the previous biennial mental health facility survey conducted in 2008—the National Survey of Mental Health Treatment Facilities (NSMHTF) under OMB No. 0930-0119. Similar in design to the 2008 NSMHTF, the 2010 N-MHSS will survey all mental health service locations, instead of surveying each mental health organization as a whole. These separate mental health service locations (facilities) are in contrast to mental health organizations which may include multiple facilities (service locations). This survey will be (a) a 100-percent enumeration of all known facilities nationwide that specialize in mental health treatment services, (b) more consumer-oriented in describing services available at each facility location, and (c) patterned after SAMHSA's Office of Applied Studies National Survey of Substance Abuse Treatment Services (OMB No. 0930-0106).

The 2010 N-MHSS will utilize one questionnaire for all mental health facility types including hospitals, residential treatment centers, outpatient clinics, and multi-setting facilities. The information collected will include: intake telephone numbers for services, types of services offered, sources of payment for services, facility caseload characteristics, and facility bed counts, if applicable. This survey will use a multi-mode approach to data collection—mail and web with telephone follow up.

The resulting database will be used to provide both state and national estimates of facility types and their patient caseloads. Information from the 2010 survey will also be used to update SAMHSA's online Mental Health Facility Locator for use by consumers. In addition, data derived from the survey will be published by CMHS in SAMHSA publications such as Mental Health, United States and in professional journals such as Psychiatric Services and the American Journal of Psychiatry. The publication, Mental Health, United States, is used by the general public, State governments, the U.S. Congress, university researchers, mental health service providers, and mental health care professionals. The following Table summarizes the estimated response burden for the survey.

Estimated Total Response Burden for the 2010 N MHSS
Facility type | Number of respondents | Responses per respondent | Total responses | Hours per response | Total hour burden
Public Psychiatric Hospitals | 305 | 1 | 305 | 1 | 305
Private Psychiatric Hospitals | 536 | 1 | 536 | 1 | 536
General Hospitals with Separate Psychiatric Units | 1,719 | 1 | 1,719 | 1 | 1,719
Residential Treatment Centers for Adults | 833 | 1 | 833 | 1 | 833
Residential Treatment Centers for Children | 1,191 | 1 | 1,191 | 1 | 1,191
Outpatient Clinics (including Hospital-Based) | 6,292 | 1 | 6,292 | 1 | 6,292
Multi-Setting Community Facilities | 2,124 | 1 | 2,124 | 1 | 2,124
Total | 13,000 |  | 13,000 |  | 13,000

Written comments and recommendations concerning the proposed information collection should be sent by January 4, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: November 25, 2009.
Elaine Parry,
Director, Office of Program Services.

[FR Doc. E9-28950 Filed 12-3-09; 8:45 am]

BILLING CODE 4162-20-P